OFFICE OF THE UNITED STATES TRADE REPRESENTATIVE

Generalized System of Preferences; Imports Statistics Relating to Competitive Need Limitations; Invitation for Public Comment

AGENCY: Office of the United States Trade Representative.

ACTION: Notice; Invitation for Public Comment.

SUMMARY: The Trade Policy Staff Committee (TPSC) is informing the public of interim 1999 import statistics relating to Competitive Need Limitations (CNL) under the Generalized System of Preferences (GSP) program. The TPSC also invites public comments by 5:00 p.m. March 31, regarding possible de minimis CNL waivers with respect to particular articles, and possible redesignations under the GSP program of articles currently subject to CNLs.

FOR FURTHER INFORMATION CONTACT: GSP Subcommittee, Office of the United States Trade Representative, 600 17th Street, NW., Room 518, Washington, DC 20508. The telephone number is (202) 395-6971.

SUPPLEMENTARY INFORMATION:

I. Competitive Need Limitations

Section 503(c)(2)(A) of the Trade Act of 1974, as amended (the “1974 Act”) (19 U.S.C. 2463(c)(2)(A)), provides for Competitive Need Limitations on duty-free treatment under the GSP program. When the President determines that a beneficiary developing country exported to the United States during a calendar year either (1) a quantity of a GSP-eligible article having a value in excess of the applicable amount for that year ($90 million for 1999), or (2) a quantity of a GSP-eligible article having a value equal to or greater than 50 percent of the value of total U.S. imports of the article from all countries (the “50 percent” CNL), the President shall terminate GSP duty-free treatment for that article from that beneficiary developing country by no later than July 1 of the next calendar year.

II. Discretionary Decisions

A. De Minimis Waivers

Section 503(c)(2)(F) of the 1974 Act provides the President with discretion to waive the 50 percent CNL with respect to an eligible article imported from a beneficiary developing country if the value of total imports of that article from all countries during the calendar year did not exceed the applicable amount for that year ($14.5 million for 1999).

B. Redesignation of Eligible Articles

Where an eligible article from a beneficiary developing country ceased to receive duty-free treatment due to exceeding the CNL in a prior year, Section 503(c)(2)(C) of the 1974 Act provides the President with discretion to redesignate such an article for duty-free treatment if imports in the most recently completed calendar year did not exceed the CNLs.

III. Implementation of Competitive Need Limitations, Waivers, and Redesignations

Exclusions from GSP duty-free treatment where CNLs have been exceeded, as well as the return of GSP duty-free treatment to products for which the President has used his discretionary authority to grant redesignations, will be effective July 1, 2000. Decisions on these matters, as well as decisions with respect to de minimis waivers, will be based on full 1999 calendar year import statistics.

IV. Interim 1999 Import Statistics

In order to provide advance indication of possible changes in the list of eligible articles pursuant to exceeding CNLs, and to afford an earlier opportunity for comment regarding possible de minimis waivers and redesignations, interim import statistics covering the first 10 months of 1999 are included with this notice.

The following lists contain the HTSUS numbers and beneficiary country of origin for GSP-eligible articles, the value of imports of such articles for the first ten months of 1999, and their percentage of total imports of that product from all countries. The flags indicate the status of GSP eligibility.

Articles marked with an “*” are those that have been excluded from GSP eligibility for the entire past calendar year. Flags “1” or “2” indicate products that were not eligible for duty-free treatment under GSP for the first six months or last six months, respectively, of 1999.

The flag “D” identifies articles with total U.S. imports from all countries, based on interim 1999 data, less than the applicable amount ($14.5 million in 1999) for eligibility for a de minmis waiver of the 50 percent CNL.

List I shows GSP-eligible articles from beneficiary developing countries that have exceeded the CNL of $90 million in 1999. Those articles without a flag identify articles that were GSP eligible during 1999 but stand to lose GSP duty-free treatment on July 1, 2000. In addition, List I shows articles (denoted with a flag “*” or “2”) which did not have GSP duty-free treatment in all or the last half of 1999.

List II shows GSP-eligible articles from beneficiary developing countries that (1) have not yet exceeded, but are approaching, the $90 million CNL during the period from January through October 1999, or (2) are close to or above the 50 percent CNL. Depending on final calendar year 1999 import data, these products also stand to lose GSP duty-free treatment on July 1, 2000.

List III is a subset of List II. List III identifies GSP-eligible articles from beneficiary developing countries that are near or above the 50 percent CNL, but that may be eligible for a de minimis waiver of the 50 percent CNL. Actual eligibility for de minimis waivers will depend on final calendar year 1999 import data.

List IV shows GSP articles from beneficiary developing countries which are currently not receiving GSP duty-free treatment, but which have import levels (based on interim 1999 data) below the CNLs and which thus may be eligible for redesignation pursuant to the President's discretionary authority. Articles with a “D” exceed the 50 percent CNL and would require both de minimis waivers and redesignation to receive GSP duty-free treatment. The list may contain articles that may not be redesignated until certain conditions are fulfilled, as for example, where GSP eligibility for articles was suspended because of deficiencies in beneficiary countries' protection of the rights of workers or owners of intellectual property. This list does not include articles from India which do not receive GSP treatment as a result of Presidential Proclamation 6425 of April 29, 1992 (57 FR 19067).

Each list is followed by a summary table that indicates the number of products cited from each beneficiary developing country and the total value of imports of those products from the beneficiary developing country.

The lists appended to this notice are provided for informational purposes only. The attached lists are computer-generated and, based on interim 1999 data, may not include all articles that may be affected by the GSP CNLs. Regardless of whether or not an article is included on the lists, all determinations and decisions regarding the CNLs of the GSP program will depend on full calendar year 1999 import data with respect to each GSP eligible article. Each interested party is advised to conduct its own review of 1999 import data with regard to the possible application of GSP CNLs.

IV. Public Comments

All written comments with regard to the matters discussed above should be addressed to: GSP Subcommittee, Office of the U.S. Trade Representative, 600 17th Street, N.W., Room 518, Washington, DC 20508. All submissions must be in English and should conform to the information requirements of 15 CFR 2007. Furthermore, each party providing comments should indicate on the first page of the submission its name, the relevant Harmonized Tariff Schedule subheading(s), the beneficiary country or territory of interest, and the type of action (e.g., the use of the President's de minimis waiver authority, etc.) in which the party is interested.

A party must provide fourteen copies of its statement which must be received by the Chairman of the GSP Subcommittee no later than 5 p.m., Friday, March 31. Comments received after the deadline will not be accepted. If the comments contain business confidential information, fourteen copies of a non-confidential version must also be submitted. A justification as to why the information contained in the submission should be treated confidentially must be included in the submission. In addition, the submissions containing confidential information should be clearly marked “confidential” at the top and bottom of each page of the submission. The version that does not contain confidential information should also be clearly marked, at the top and bottom of each page, “public version” or “non-confidential”.

Written comments submitted in connection with these decisions, except for information granted “business confidential” status pursuant to 15 CFR 2007.7, will be available for public inspection shortly after the filing deadline by appointment only with the staff of the USTR Public Reading Room (202) 395-6186. Other requests and questions should be directed to the GSP Information Center at USTR by calling (202) 395-6971.

Jon Rosenbaum,
Chairman, GSP Subcommittee of the TPSC.

BILLING CODE 3190-01-M

[FR Doc. 00-3399 Filed 2-14-00; 8:45 am]

BILLING CODE 3190-01-C